DEPARTMENT OF COMMERCE

International Trade Administration

[A-533-885, A-570-097]

Polyester Textured Yarn From India and the People's Republic of China: Amended Final Antidumping Duty Determination for India and Antidumping Duty Orders

AGENCY: Enforcement and Compliance, International Trade Administration, Department of Commerce.

SUMMARY: Based on affirmative final determinations by the Department of Commerce (Commerce) and the International Trade Commission (ITC), Commerce is issuing antidumping duty orders on polyester textured yarn from India and the People's Republic of China (China). In addition, Commerce is amending its final affirmative determination with respect to India.

DATES: Applicable January 10, 2020.

FOR FURTHER INFORMATION CONTACT: Kate Johnson (India) or Irene Gorelik (China), AD/CVD Operations, Office VIII, Enforcement and Compliance, International Trade Administration, U.S. Department of Commerce, 1401 Constitution Avenue NW, Washington, DC 20230; telephone (202) 482-4929 or (202) 482-6905, respectively.

SUPPLEMENTARY INFORMATION:

Background

On November 19, 2019, Commerce published its affirmative final determinations in the less-than-fair-value (LTFV) investigations of polyester textured yarn from India and China.¹ Also on November 19, 2019, Commerce received ministerial error allegations.² See the “India Amended Final Determination” section for further discussion. On January 3, 2020, the International Trade Commission (ITC) notified Commerce of its final determinations, pursuant to section 735(d), that an industry in the United States is materially injured within the meaning of section 735(b)(1)(A)(i) of the Tariff Act of 1930, as amended (the Act) by reason of LTFV imports of polyester textured yarn from India and China, and of its determination that critical circumstances do not exist with respect to imports of polyester textured yarn from China.³

¹ See Polyester Textured Yarn from India: Final Determination of Sales at Less Than Fair Value, 84 FR 63843 (November 19, 2019) (India Final); and Polyester Textured Yarn from the People's Republic of China: Final Determination of Sales at Less Than Fair Value, and Final Affirmative Determination of Critical Circumstances, 84 FR 63850 (November 19, 2019).

² See Petitioner's Letter, “Polyester Textured Yarn from India—Petitioners' Ministerial Error Comments Regarding the Final Determination,” dated November 19, 2019; see also JBF's Letter “Antidumping Investigation of Polyester Textured Yarn from India (Case No. A-533-885)—JBF Industries Limited's Ministerial Error Comments for the Final Determination,” dated November 19, 2019.

³ See ITC Notification Letter, Investigation Nos. 701-TA-612-613 and 731-TA-1429-1430 (Final), dated January 3, 2020 (ITC Notification).

Scope of the Orders

The product covered by these orders is polyester textured yarn from India and China. For a complete description of the scope of these orders, see the Appendix to this notice.

Amendment to Final Determination

A ministerial error is defined as an error in addition, subtraction, or other arithmetic function, clerical error resulting from inaccurate copying, duplication, or the like, and any other similar type of unintentional error which the Secretary considers ministerial.⁴

⁴ See section 735(e) of the Act; see also 19 CFR 351.224(f).

India Amended Final Determination

Pursuant to section 735(e) of the Act and 19 CFR 351.224(e) and (f), Commerce is amending the final determinations in the LTFV investigation of polyester textured yarn from India (India Final) to reflect the correction of a ministerial error in the final estimated weighted-average dumping margin calculated for Reliance Industries Limited (Reliance). In addition, because Reliance's estimated weighted-average dumping margin is the basis for the estimated weighted-average dumping margin for JBF Industries Limited (JBF), as well as the estimated weighted-average dumping margin determined for all other Indian producers and exporters of subject merchandise, we also are revising JBF's estimated weighted-average dumping margin and the all-others rate in the India Final.⁵

⁵ See infra, section on “Estimated Weighted-Average Dumping Margins”; see also Memorandum, “Less-Than-Fair-Value Investigation of Polyester Textured Yarn from India: Ministerial Error Allegations Regarding the Final Determination,” dated December 9, 2019.

Antidumping Duty Orders

On January 3, 2020, in accordance with section 735(d) of the Act, the ITC notified Commerce of its final determinations in these investigations, in which it found that an industry in the United States is materially injured by reason of imports of polyester textured yarn from India and China.⁶ Therefore, in accordance with section 735(c)(2) of the Act, Commerce is issuing these antidumping duty orders. Because the ITC determined that imports of polyester textured yarn from India and China are materially injuring a U.S. industry, unliquidated entries of such merchandise from India and China, entered or withdrawn from warehouse for consumption, are subject to the assessment of antidumping duties.

⁶ See ITC Notification Letter; see also Polyester Textured Yarn from China and India (Inv. Nos. 701-TA-612-613 and 731-TA-1429-1430 (Final), USITC Publication 5007, January 2020).

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of polyester textured yarn from India and China. With the exception of entries occurring after the expiration of the provisional measures period and before publication of the ITC's final affirmative injury determinations, as further described below, antidumping duties will be assessed on unliquidated entries of polyester textured yarn from India and China entered, or withdrawn from warehouse, for consumption, on or after July 1, 2019, the date of publication of the preliminary determinations.⁷

⁷ See China Preliminary Determination and Polyester Textured Yarn from India: Preliminary Affirmative Determination of Sales at Less Than Fair Value and Postponement of Final Determination and Extension of Provisional Measures, 84 FR 31301 (July 1, 2019) (India Preliminary Determination).

Continuation of Suspension of Liquidation

Except as noted in the “Provisional Measures” section of this notice, in accordance with section 735(c)(1)(B) of the Act, Commerce will instruct CBP to continue to suspend liquidation on all relevant entries of polyester textured yarn from India and China. These instructions suspending liquidation will remain in effect until further notice.

Commerce will also instruct CBP to require cash deposits equal to the estimated weighted-average dumping margins indicated in the tables below, adjusted by the export subsidy offset. Given that the provisional measures period has expired, as explained below, effective on the date of publication in the Federal Register of the notice of the ITC's final affirmative injury determinations, CBP will require, at the same time as importers would normally deposit estimated duties on subject merchandise, a cash deposit equal to the rates noted below.⁸ The relevant all-others rate applies to all producers or exporters not specifically listed. The China-wide entity rate applies to all exporter-producer combinations not specifically listed.

⁸ See section 736(a)(3) of the Act.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of polyester textured yarn from India and China, Commerce extended the four-month period to six months in each of these investigations. Commerce published the preliminary determinations in these investigations on July 1, 2019.⁹

⁹ See China Preliminary Determination and India Preliminary Determination.

The extended provisional measures period, beginning on the date of publication of the preliminary determinations, ended on December 27, 2019. Therefore, in accordance with section 733(d) of the Act and our practice,¹⁰ Commerce will instruct CBP to terminate the suspension of liquidation and to liquidate, without regard to antidumping duties, unliquidated entries of polyester textured yarn from India and China entered, or withdrawn from warehouse, for consumption after December 27, 2019, the final day on which the provisional measures were in effect, until and through the day preceding the date of publication of the ITC's final affirmative injury determinations in the Federal Register. Suspension of liquidation and the collection of cash deposits will resume on the date of publication of the ITC's final determinations in the Federal Register.

¹⁰ See, e.g., Certain Corrosion-Resistant Steel Products from India, India, the People's Republic of China, the Republic of Korea and Taiwan: Amended Final Affirmative Antidumping Determination for India and Taiwan, and Antidumping Duty Orders, 81 FR 48390, 48392 (July 25, 2016).

Critical Circumstances

With regard to the ITC's negative critical circumstances determination on imports of polyester textured yarn from China discussed above, we will instruct CBP to lift suspension and to refund any cash deposits made to secure the payment of estimated antidumping duties with respect to entries of polyester textured yarn from China, entered or withdrawn from warehouse, for consumption on or after April 2, 2019 (i.e., 90 days prior to the date of publication of the preliminary determination), but before July 1, 2019 (i.e., the date of publication of the preliminary determination for this investigation).

Estimated Weighted-Average Dumping Margins

The estimated weighted-average antidumping duty margin percentages are as follows:

India
Exporter or producer | Estimated weighted- average dumping margin (percent) | Cash deposit rate (adjusted for export subsidy offset(s)) (percent)
JBF Industries Limited | 47.98 | 43.85
Reliance Industries Limited | 17.98 | 13.85
All Others | 17.98 | 13.50

China
Producer | Exporter | Estimated dumping margin (percent) | Cash deposit rate (adjusted for export subsidy offset) (percent)
Jiangsu Hengli Chemical Fiber Co., Ltd | Jiangsu Hengli Chemical Fiber Co., Ltd | 76.07 | 65.39
| China-Wide Entity ¹¹ | 77.15 | 66.47

This notice constitutes the antidumping duty orders with respect to polyester textured yarn from India and China pursuant to section 736(a) of the Act. Interested parties can find a list of antidumping duty orders currently in effect at http://enforcement.trade.gov/stats/iastats1.html.

¹¹ The China-wide entity includes: (1) The single entity comprising Fujian Billion Polymerization Fiber Technology Industrial Co., Ltd. and its affiliate Fujian Baikai Textile Chemical Fiber Co., Ltd.; (2) Suzhou Shenghong Fiber Co., Ltd. (3) Fujian Zhengqi Hi-tech Fiber Technology Co., Ltd.; (4) Chori (China) Co., Ltd.; (5) Jinjiang Jinfu Chemical Fiber and Polymer Co., Ltd.; (6) Jiangsu Guowang High-Technique Fiber Co., Ltd.; and (7) Pujiang Fairy Home Textile Co., Ltd. The China-wide entity also includes 33 companies named in the Petition that did not respond to our request for quantity and value information, and two companies that submitted quantity and value data but did not submit separate rate applications.

This amended final determination and antidumping duty orders are published in accordance with sections 735(e) and 736(a) of the Act and 19 CFR 351.224(e) and 19 CFR 351.211(b).

Dated: January 6, 2020.
Jeffrey I. Kessler,
Assistant Secretary for Enforcement and Compliance.

Appendix

Scope of the Orders

The merchandise covered by these orders, polyester textured yarn, is synthetic multifilament yarn that is manufactured from polyester (polyethylene terephthalate). Polyester textured yarn is produced through a texturing process, which imparts special properties to the filaments of the yarn, including stretch, bulk, strength, moisture absorption, insulation, and the appearance of a natural fiber. This scope includes all forms of polyester textured yarn, regardless of surface texture or appearance, yarn density and thickness (as measured in denier), number of filaments, number of plies, finish (luster), cross section, color, dye method, texturing method, or packing method (such as spindles, tubes, or beams).

Excluded from the scope of these orders is bulk continuous filament yarn that: (a) is polyester synthetic multifilament yarn; (b) has denier size ranges of 900 and above; (c) has turns per meter of 40 and above; and (d) has a maximum shrinkage of 2.5 percent.

The merchandise subject to these orders is properly classified under subheadings 5402.33.3000 and 5402.33.6000 of the Harmonized Tariff Schedule of the United States (HTSUS). Merchandise subject to these orders may also enter under HTSUS subheading 5402.52.00.¹² Although the HTSUS subheadings are provided for convenience and customs purposes, the written description of the merchandise is dispositive.

¹² HTSUS subheading 5402.52 includes subheadings 5402.52.10.00 and 5402.52.90.00.

[FR Doc. 2020-00247 Filed 1-9-20; 8:45 am]

BILLING CODE 3510-DS-P